DEPARTMENT OF COMMERCE

Bureau of Economic Analysis

Proposed Data Sharing Activity

AGENCY: Bureau of Economic Analysis, Department of Commerce.

ACTION: Notice and request for public comment.

SUMMARY: The Bureau of Economic Analysis (BEA) proposes to provide to the Bureau of the Census (Census Bureau) data collected in its surveys of foreign direct investment (FDI) in the United States for statistical purposes exclusively. In accordance with the requirement of section 524(d) of the Confidential Information Protection and Statistical Efficiency Act of 2002 (CIPSEA), we are providing the opportunity for public comment on this data-sharing action. The Census Bureau will link the FDI data, primarily those collected in the Benchmark Survey of Foreign Direct Investment in the United States—2002, to establishments in the Census Bureau's 2002 Economic Census and Business Register. Through the use of these shared data, the Census Bureau will augment and improve its establishment data on all U.S. businesses from the Economic Census by separately identifying data for the establishments of foreign-owned U.S. companies for specific detailed industries, and by identifying data quality issues arising from reporting differences in the Census Bureau and BEA surveys. The Census Bureau and BEA will publish non-confidential aggregate reports (public use) that have cleared BEA and Census Bureau disclosure review. Disclosure review is a process conducted to verify that the data to be released do not reveal any confidential information.

DATES: Written comments must be submitted on or before July 19, 2004.

ADDRESSES: Please direct all written comments on this proposed program to the Director, Bureau of Economic Analysis, (BE-1), Washington, DC 20230.

FOR FURTHER INFORMATION CONTACT: Requests for additional information on this proposed program should be directed to Christopher Emond, Chief, Special Surveys Branch, International Investment Division, Bureau of Economic Analysis (BE-50), Washington, DC 20230, by phone on (202) 606-9826 or by e-mail at christopher.emond@bea.gov.

SUPPLEMENTARY INFORMATION:

Background

CIPSEA (Pub. L. 107-347, Title V) and the International Investment and Trade in Services Survey Act (Pub. L. 94-472, 22 United States Code (U.S.C.) 3101-3108) allow BEA and the Census Bureau to share certain business data for exclusively statistical purposes. Section 524(d) of the CIPSEA requires a Federal Register notice announcing the intent to share data (allowing 60 days for public comment).

Section 524(d) also requires us to provide information about the terms of the agreement for data sharing. For the purposes of this notice, BEA has decided to group these terms by three categories. The categories are:

• Shared data.

• Statistical purposes for the shared data.

• Data access and confidentiality

Shared Data

BEA proposes to provide the Census Bureau with data collected from the FDI surveys. The agreement also calls for the Census Bureau to share data collected from the 2002 Economic Census and Business Register. A separate notice will address this issue.

BEA will provide the Census Bureau with only those data items necessary to link records from the FDI surveys with the establishments from the Business Register. The Census Bureau will use these data for statistical purposes exclusively. Through record linkage, the Census Bureau will augment and improve its establishment data on all U.S. businesses from the Economic Census by separately identifying data for the establishments of foreign-owned U.S. companies for specific detailed industries, and by identifying data quality issues arising from reporting differences in the Census Bureau and BEA surveys.

Statistical Purposes for the Shared Data

The data collected from the FDI surveys are used to estimate the financial and operating data, direct investment positions, and the international transactions data of U.S. affiliates of foreign companies. Statistics from these surveys are published in articles in the Survey of Current Business and in separate data publications. All data are collected under sections 3101-3108, of Title 22 U.S.C.

Data Access and Confidentiality

Title 22, U.S.C. 3104 protects the confidentiality of these data. The data may be seen only by persons sworn to uphold the confidentiality of the information. Access to the shared data will be restricted to specifically authorized personnel and will be provided for statistical purposes only. The results of this project are subject to disclosure protection. All Census Bureau employees with access to these data will become BEA Special Sworn Employees—meaning that they, under penalty of law, must uphold the data's confidentiality. To further safeguard the confidentiality of the data, BEA has conducted an Information Technology security review of the Census Bureau.

Dated: May 11, 2004.
J. Steven Landefeld,
Director, Bureau of Economic Analysis.

[FR Doc. 04-11170 Filed 5-17-04; 8:45 am]

BILLING CODE 3510-06-P